DEPARTMENT OF COMMERCE

International Trade Administration

Development and Implementation of Cross-border Privacy Rules in the Asia Pacific Cooperation Group

Authority: 15 U.S.C. 1501 et seq.

ACTION: Announcement of meeting and comment period.

SUMMARY: The Office of Technology and Electronic Commerce (OTEC) invites stakeholders to submit comments on the development and implementation of “cross-border privacy rules” in the Asia-Pacific Economic Cooperation Group (APEC). OTEC will also hold a public meeting at the U.S. Department of Commerce in Washington, DC on June 13, 2006. Written and electronic comments will be accepted until June 14, 2006. Topics to be discussed at the public meeting will include: the efficacy or need of cross-border privacy rules, obstacles to their creation, among other related issues.

DATES: Written and electronic comments are due by June 14, 2006. If you would like to attend the meeting please respond by June 9, 2006. The public meeting will take place on June 13, 2006. The meeting time is TBD.

ADDRESSES: All comments concerning this notice and requests to attend the meeting should be sent to the attention of Eric M. Holloway at one of the following addresses. See supplementary information for additional instructions on submitting comments.

Eric Holloway: 1401 Constitution Ave. NW., Room 2806, Washington, DC 20230 eric.holloway@mail.doc.gov.

Meeting Location: 1401 Constitution Ave. NW., Washington, DC 20230, Room TBD.

FOR FURTHER INFORMATION CONTACT: Eric Holloway, Policy Analyst, Office of Technology and Electronic Commerce, Office of Manufacturing and Services, International Trade Administration by telephone at (202) 482-4936 (this is not a toll-free number) or by e-mail at eric.holloway@mail.doc.gov.

SUPPLEMENTARY INFORMATION: The principles-based “APEC Privacy Framework” (Framework) is an important tool in encouraging the development of appropriate information privacy protections and ensuring the free flow of information between the member economies of APEC. There are 21 APEC member economies: Australia, Brunei Darussalam, Canada, Chile, the People's Republic of China, Hong Kong, Indonesia, Japan, the Republic of Korea, Malaysia, Mexico, New Zealand, Papua New Guinea, Peru, Philippines, Russia, Singapore, Chinese Taipei, Thailand, the United States, and Vietnam.

The Framework can be accessed on the APEC Web site at http://203.127.220.112/content/apec/apec_groups/som_special_task_groups/electronic_commerce.downloadlinks.0004.LinkURL.Download.ver5.1.9. This Framework, which aims at promoting electronic commerce throughout the Asia-Pacific region, is consistent with the core values of the Organization for Economic Cooperation and Development's 1980 Guidelines on the Protection of Privacy and Trans-Border Flows of Personal Data, and reaffirms the value of privacy to individuals and to the information society. The Framework is also intended to provide clear guidance and direction to businesses in APEC economies on common privacy issues and the impact of privacy issues upon the way legitimate businesses are conducted.

An important element of the Framework is the development and implementation of “cross-border privacy rules” (CBPRs) in the APEC region. The purpose of CBPRs would be to enable global organizations that collect, access, use, or process data in APEC member economies to develop and implement uniform approaches within their organizations for global access to and use of personal information. A uniform approach to CBPRs in APEC would allow for one approval system for CBPRs instead of the potential for approval systems for each of the 21 member economies.

The Office of Technology and Electronic Commerce requests comments on the development and implementation of CBPRs in the APEC region. The Office of Technology and Electronic Commerce encourages comments on all aspects of CBPRs. General areas of discussion could include: (1) Impediments to the cross-border flow of information, (2) issues related to personal information protection, (3) the verification process for CBPRs' compliance with the APEC Privacy Principles, (4) mechanisms for the approval of CBPRs, (5) mechanisms to demonstrate compliance with CBPRs, (6) mechanisms to enforce compliance of CBPRs, (7) mechanisms to ensure support of the concept of CBPRs by APEC member economies, and (8) mechanisms to foster cooperation among various regulatory bodies to resolve cross-border disputes related to CBPRs.

Request for Public Comments

Interested parties may submit written comments from the date of publication of this notice through June 14, 2006. Comments can be written or sent electronically. All written comments must be legible and postmarked by June 14, 2006. Written comments should be sent to Eric Holloway, U.S. Department of Commerce, 1401 Constitution Avenue NW, Room 2806, Washington, DC 20230. Electronic comments should be sent to eric.holloway@mail.doc.gov. All written and electronic comments should include your name, title, and company or organization affiliation.

Public Meeting

A public meeting will take place at the U.S. Department of Commerce, 1401 Constitution Avenue NW, Washington, DC 20230 on June 13, 2006. If you would like to attend this meeting please respond electronically to Eric Holloway at eric.holloway@mail.doc.gov by June 9, 2006. Please include your name, title, company or organization affiliation, telephone number, and electronic mail address when responding. If you are not a U.S. citizen, please note this fact when responding to attend the public meeting. Non-U.S. citizens are required to supply the following additional information: full name, nationality, date of birth, and passport identification number.

Dated: May 17, 2006.
Eric M. Holloway,
Policy Analyst, Office of Technology and Electronic Commerce, U.S. Department of Commerce.

[FR Doc. E6-7779 Filed 5-19-06; 8:45 am]

BILLING CODE 3510-DR-P